DEPARTMENT OF THE INTERIOR

Bureau of Land Management

[CA-330-03-1610-00]

Notice of Availability of a Draft Resource Management Plan and Draft Environmental Impact Statement for the King Range National Conservation Area

AGENCY: Bureau of Land Management (BLM).

ACTION: Notice of availability.

SUMMARY: In accordance with the National Environmental Policy Act of 1969, and under authority of the Federal Land Policy and Management Act of 1976, and the King Range Act of 1970, the Bureau of Land Management (BLM) has prepared a Draft Resource Management Plan (RMP)/Draft Environmental Impact Statement (EIS) for the King Range National Conservation Area (NCA). The planning area, which consists of the King Range NCA and adjoining BLM public lands, encompasses approximately 62,000 acres in Humboldt and Mendocino Counties, California. The Draft RMP/Draft EIS provides direction and guidance for the management of public lands and resources within the Planning Area as well as monitoring and evaluation requirements.

DATES: Written comments on the Draft RMP/Draft EIS will be accepted for 90 days following the Environmental Protection Agency's publication of the Notice of Availability for this Draft RMP/Draft EIS in the Federal Register. Future public meetings and any other public involvement activities will be announced at least 15 days in advance through public notices, media news releases, the project Web site at http://www.ca.blm.gov/arcata/, and/or mailings.

ADDRESSES: Written comments should be sent to Bob Wick, Bureau of Land Management, Planning and Environmental Coordinator, Arcata Field Office, 1695 Heindon Rd, Arcata, CA 95521; Fax (707) 825-2301 or email (caweb330@ca.blm.gov).

SUPPLEMENTARY INFORMATION: The King Range Act of 1970 (Pub.L. 91-476) established the King Range National Conservation Area. The Federal Land Policy and Management Act of 1976 (Pub.L. 94-579) expanded the area to its present size of approximately 62,000 acres. The King Range Act requires development of “a comprehensive, balanced, and coordinated plan of land use, development, and management of the Area.” The act also states “that the plan will be reviewed and reevaluated periodically.” The original plan was completed in 1974, and the present planning effort is the first comprehensive update.

Five scoping meetings were held to solicit input for draft plan formulation. Three of these meetings were held in the communities surrounding the King Range. The other two meetings were held in Eureka and San Francisco. Public input during the scoping process identified 7 issue areas for analysis in the RMP/EIS. The Draft RMP/Draft EIS examines four alternatives that respond to these issues. The issues include: Recreation and Visitor Use, Education/Interpretation, Resource Conservation and Management, Fire Management, Transportation/Access, and Community Involvement. Alternative A is the No Action (current management) Alternative. Alternatives B, C and D present a range of management scenarios with varying amounts of natural resource restoration/use and differing levels of recreation use and facilities. The Preferred Alternative is a combination of components from Alternatives B, C and D.

Please note that comments, including names and street addresses of respondents, are available for public review and/or release under the Freedom of Information Act (FOIA). Individual respondents may request confidentiality. Respondents who wish to withhold name and/or street address from public review or from disclosure under FOIA, must state this prominently at the beginning of the written comment. Such requests will be honored to the extent allowed by law. All submissions from organizations or businesses, and from individuals identifying themselves as representatives or officials or organizations or businesses, will be made available for public inspection in their entirety.

Copies of the Draft RMP/Draft EIS have been sent to affected Federal, Tribal, State and local Government agencies, and to interested publics and are available at the Arcata Field Office. The Draft RMP/Draft EIS and other associated documents may be viewed and downloaded in PDF format at the project Web site at http://www.ca.blm.gov/arcata/.

FOR FURTHER INFORMATION CONTACT: For further information and/or to have your name added to our mailing list, contact Bob Wick, Planning and Environmental Coordinator (707) 825-2321 at the Arcata Field Office.

Dated: August 22, 2003.
Dan Averill,
Acting Arcata Field Manager.

[FR Doc. 04-2 Filed 1-15-04; 8:45 am]

BILLING CODE 4310-40-P